DEPARTMENT OF ENERGY

Federal Energy Regulatory Commission

[Project No. 15292-001]

Dashields Hydropower Corporation; Notice of Intent To File License Application, Filing of Pre-Application Document, and Approving Use of the Traditional Licensing Process

a. Type of Filing: Notice of Intent to File License Application and Request to Use the Traditional Licensing Process (TLP).

b. Project No.: 15292-001.

c. Date Filed: October 31, 2024.

d. Submitted By: Dashields Hydropower Corporation ¹ (Dashields Hydropower).

¹ Dashields Hydropower Corporation is a wholly owned subsidiary of Current Hydro LLC, which acts as agent for the applicant.

e. Name of Project: Dashields Locks and Dam Hydropower Project.

f. Location: The project would be located on the Ohio River, at the existing U.S. Army Corps of Engineers' (Corps) Dashields Locks and Dam, in Moon Township, Allegheny County, Pennsylvania. The project would partially occupy federal land administered by the Corps.

g. Filed Pursuant to: 18 CFR 5.3 of the Commission's regulations.

h. Potential Applicant Contact: Jeremy King, CEO; Current Hydro LLC; 3120 Southwest Freeway; Suite 101, PMB 50808; Houston, TX 77098. Email: jeremy@currenthydro.com; Phone: (706) 835-8516.

i. FERC Contact: Silvia Pineda-Munoz at (202) 502-8388; or email at silvia.pineda-munoz@ferc.gov.

j. Dashields Hydropower filed its request to use the Traditional Licensing Process on October 31, 2024, and provided public notice of its request on November 3, 2024. In a letter dated December 18, 2024, the Director of the Division of Hydropower Licensing approved Dashields Hydropower's request to use the Traditional Licensing Process.

k. With this notice, we are initiating informal consultation with the U.S. Fish and Wildlife Service under section 7 of the Endangered Species Act and the joint agency regulations thereunder at 50 CFR, Part 402; and NOAA Fisheries under section 305(b) of the Magnuson-Stevens Fishery Conservation and Management Act and implementing regulations at 50 CFR 600.920. We are also initiating consultation with the Pennsylvania State Historic Preservation Officer, as required by section 106, National Historic Preservation Act, and the implementing regulations of the Advisory Council on Historic Preservation at 36 CFR 800.2.

l. With this notice, we are designating Dashields Hydropower, as the Commission's non-federal representative for carrying out informal consultation pursuant to section 7 of the Endangered Species Act and section 305(b) of the Magnuson-Stevens Fishery Conservation and Management Act; and consultation pursuant to section 106 of the National Historic Preservation Act.

m. Dashields Hydropower filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

o. The applicant states its unequivocal intent to submit an application for an original license for Project No. 15292.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 18, 2024.
Debbie-Anne A. Reese,
Secretary.

[FR Doc. 2024-30866 Filed 12-27-24; 8:45 am]

BILLING CODE 6717-01-P